NUCLEAR REGULATORY COMMISSION

[Docket No. 11006380; NRC-2020-0198]

Perma-Fix Northwest Richland, Inc.

AGENCY: Nuclear Regulatory Commission.

ACTION: Export license application; opportunity to provide comments, request a hearing, and petition for leave to intervene.

SUMMARY: The U.S. Nuclear Regulatory Commission (NRC) received and is considering issuing an export license (XW027), received from Perma-Fix Northwest Richland, Inc. (PFNW). The request seeks the NRC's approval for an existing license authorizing the export of radioactive waste to Germany. The NRC is providing notice of the opportunity to comment, request a hearing, and petition to intervene on PFNW's application.

DATES: Submit comments by October 16, 2020. A request for a hearing or a petition for leave to intervene must be filed by October 16, 2020.

ADDRESSES: You may submit comments by any of the following methods:

• Federal Rulemaking Website: Go to https://www.regulations.gov and search for Docket ID NRC-2020-0198. Address questions about Docket IDs in Regulations.gov to Jennifer Borges; telephone: 301-287-9127; email: Jennifer.Borges@nrc.gov. For technical questions contact the individual listed in the FOR FURTHER INFORMATION CONTACT section of this document.

• Email comments to: Hearing.docket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Stephen C. Baker, Office of International Programs, U.S. Nuclear Regulatory Commission, Washington, DC 20555-0001; telephone: 301-287-9059, email: Stephen.Baker@nrc.gov.

SUPPLEMENTARY INFORMATION:

I. Obtaining Information and Submitting Comments

A. Obtaining Information

Please refer to NRC-2020-0198 or Docket No. 11006380 when contacting the NRC about the availability of information for this action. You may obtain publicly-available information related to this action by the following methods:

• Federal Rulemaking Website: Go to https://www.regulations.gov and search for Docket ID NRC-2020-0198.

• NRC's Public Website: Go to https://www.nrc.gov and search for XW027, Docket No. 11006380, Docket ID NRC-2020-0198, or ADAMS Accession No. ML20126G236.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The export license application from PFNW is available in ADAMS under Accession No. ML20126G236.

B. Submitting Comments

Please include NRC-2020-0198 or Docket No. 11006380 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

In accordance with paragraph 110.70(b) of title 10 of the Code of Federal Regulations (10 CFR) the NRC is noticing the receipt of an export license application submitted by PFNW on May 4, 2020, for the export of German-origin radioactive waste from PFNW processing facilities to Germany. The application seeks authorization to export no greater than 20,000 kilograms and 0.0153 terabecquerels of low-level radioactive waste in the form of residual ash and residual metal or non-combustible material. The application requests an expiration date of September 1, 2025.

The NRC is noticing the receipt of the application; providing the opportunity to submit written comments concerning the application; and providing the opportunity to request a hearing or petition for leave to intervene, for a period of 30 days after publication of this notice in the Federal Register. Any request for a hearing or petition for leave to intervene shall be served by the requestor or petitioner in accordance with 10 CFR 110.89. A hearing request or petition for leave to intervene must include the information specified in 10 CFR 110.82(b).

A request for a hearing or petition for leave to intervene may be filed with the NRC electronically in accordance with NRC's E-Filing rule promulgated in August 2007 (72 FR 49139; August 28, 2007, as amended at 77 FR 46562, August 3, 2012). Information about filing electronically is available on the NRC's public website at https://www.nrc.gov/site-help/e-submittals.html. To ensure timely electronic filing, at least 10 days prior to the filing deadline, the petitioner/requestor should contact the Office of the Secretary by email at Hearing.Docket@nrc.gov, or by calling 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

The information concerning this application for an export license amendment follows.

NRC Export License Application
Application Information:
Name of Applicant | Perma-Fix Northwest Richland, Inc. (PFNW).
Date of Application | April 27, 2020.
Date Received | May 4, 2020.
Application No. | XW027.
Docket No. | 11006380.
ADAMS Accession No. | ML20126G236.
Description of Material:
Material Type | Radioactive material consisting of dry active waste, incinerable dry active material including personal protective equipment, paper, plastic, glass and liquid. The waste was generated by medical and pharmaceutical research projects and other industries (excluding Nuclear Power Plants).
Total Quantity | Authorization to export a total maximum quantity of not to exceed 2.4 TBq as follows: H-3: 0.0123 TBq, C-14: 0.00815 Tbq, Cs-137, Co-60, Sr-90, Ra-226, Tc-99, and Fe-55: 0.40 MBq, Ni-63: 2.38 TBq.
End Use | Disposal in Germany.
Country of Destination | Germany.

Dated: September 11, 2020.
For the Nuclear Regulatory Commission.
David L. Skeen,
Deputy Director, Office of International Programs.

[FR Doc. 2020-20417 Filed 9-15-20; 8:45 am]

BILLING CODE 7590-01-P